NATIONAL AERONAUTICS AND SPACE ADMINISTRATION

[Notice (04-056)]

President's Commission on Implementation of United States Space Exploration Policy; Meeting

AGENCY: National Aeronautics and Space Administration (NASA).

ACTION: Notice of meeting.

SUMMARY: In accordance with the Federal Advisory Committee Act, Public Law 92-463, as amended, the National Aeronautics and Space Administration announces a meeting of the President's Commission on Implementation of United States Space Exploration Policy.

DATES: Monday, May 3, 2004, 1 p.m. to 5 p.m. and Tuesday, May 4, 2004, 9 a.m. to 5 p.m.

ADDRESSES: Asia Society, 725 Park Avenue, New York City, NY 10021.

FOR FURTHER INFORMATION CONTACT: Mr. Steven Schmidt, Office of the Administrator, National Aeronautics and Space Administration, Washington, DC, (202) 358-1808.

SUPPLEMENTARY INFORMATION: The meeting will be open to the public up to the seating capacity of the room. The agenda for the meeting is as follows:

—Welcoming remarks by Chairman Pete Aldridge

—Introduction of Commission Members

—Overview of Commission Charter and Goal

—Testimony from public

—Comments and discussion

—Commissioners' Deliberations

—Closing Remarks

It is not possible to accommodate the full notice period because of the short time frame in which the Commission is expected to finish its work and write its report. Visitors will be requested to sign a visitor's register.

R. Andrew Falcon,
Advisory Committee Management Officer, National Aeronautics and Space Administration.

[FR Doc. 04-9441 Filed 4-23-04; 8:45 am]

BILLING CODE 7510-01-P